DEPARTMENT OF THE INTERIOR

Bureau of Land Management

[WO-230-1030-PB-01-24 1A; OMB Approval Number 1004-0001]

Notice of information Collection To Be Submitted to the Office of Management and Budget for Review Under the Paperwork Reduction Act

The Bureau of Land Management (BLM) has submitted the proposed collection of information listed below to the Office of Management and Budget (OMB) for approval under the provisions of the Paperwork Reduction Act (44 U.S.C. 3501 et seq.). On August 22, 2000, the BLM published a notice in the Federal Register (65 FR 51017) requesting comment on this proposed collection. The comment period ended on October 23, 2000. The BLM received no comments from the public in response to that notice. Copies of the proposed collection of information and related forms and explanatory material may be obtained by contacting the BLM information clearance officer at the telephone number listed below.

The OMB is required to respond to this request within 60 days but may respond after days. For maximum consideration your comments and suggestions on the requirement should be made within 30 days directly to the Office of Management and Budget, Interior Department Desk Officer, (1004-001), Office of Information and Regulatory Affairs, Washington, DC 20503. Please provide a copy of your comments to the Bureau Clearance Officer (WO-630), 1849 C St., NW., Mail Stop 401 LS, Washington, DC 20240.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated electronic, mechanical, or other forms of information technology.

Title: Free Use Application and Permit (43 CFR 3620, 5510).

OMB Approval Number: 1004-0001.

Bureau Form Number: Form 5510-1.

Abstract: The BLM uses this form to collect information from applicants for free permits for vegetative or mineral materials.

Frequency: Once, at time of application.

Description of Respondents: Respondents include the general public and not-for-profit organizations.

Estimated Completion Time: 30 minutes.

Annual Responses: 450.

Filing Fee Per Response: 0.

Annual Burden Hours: 225.

Bureau Clearance Officer: Michael Schwartz, (202) 452-5033.

Dated: November 13, 2000.
Michael Schwartz,
BLM Information Collection Clearance Officer.

[FR Doc. 00-30888 Filed 12-4-00; 8:45 am]

BILLING CODE 4310-84-M